DEPARTMENT OF TRANSPORTATION

Federal Aviation Administration

14 CFR Part 39

[Docket No. FAA-2015-3642; Directorate Identifier 2015-CE-028-AD]

RIN 2120-AA64

Airworthiness Directives; SOCATA Airplanes

AGENCY: Federal Aviation Administration (FAA), Department of Transportation (DOT).

ACTION: Notice of proposed rulemaking (NPRM).

SUMMARY: We propose to adopt a new airworthiness directive (AD) for SOCATA Models TB 9, TB 10, TB 20, TB 21, and TB 200 airplanes. This proposed AD results from mandatory continuing airworthiness information (MCAI) originated by an aviation authority of another country to identify and correct an unsafe condition on an aviation product. The MCAI describes the unsafe condition as corrosion of the horizontal stabilizer. We are issuing this proposed AD to require actions to address the unsafe condition on these products.

DATES: We must receive comments on this proposed AD by October 13, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact SOCATA, Direction des Services, 65921 Tarbes Cedex 9, France; telephone: 33 (0)5 62.41.73.00; fax: 33 (0)5 62.41.76.54; or SOCATA North America, North Perry Airport, 7501 S Airport Rd., Pembroke Pines, Florida 33023, telephone: (954) 893-1400; fax: (954) 964-4141; Internet: http://www.socata.com. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-3642; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Albert J. Mercado, Aerospace Engineer, FAA, Small Airplane Directorate, 901 Locust, Room 301, Kansas City, Missouri 64106; telephone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2015-3642; Directorate Identifier 2015-CE-028-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2015-0130, dated July 7, 2015 (referred to after this as “the MCAI”), to correct an unsafe condition for the specified products. The MCAI states:

During accomplishment of SOCATA Service Bulletin (SB) SB10-152-55 at original issue, some operators reported finding heavy corrosion of the horizontal stabilizer (HS) spar.

The results of the technical investigation have identified that the corrosion was caused by humidity ingress in the HS on aeroplanes subject to severe environmental conditions.

This condition, if not detected and corrected, could result in buckling and permanent HS distortion, possibly resulting in reduced control of the aeroplane.

To address this unsafe condition, SOCATA issued SB 10-152-55 Revision 1 to provide instructions for inspection and corrective action.

For the reasons described above, this AD requires repetitive inspections of the affected area of the HS and, depending on findings, accomplishment of applicable corrective action(s).

You may examine the MCAI on the Internet at http://www.regulations.gov by searching for and locating Docket No. FAA-2015-3642.

Related Service Information Under 1 CFR Part 51

SOCATA has issued DAHER-SOCATA TB Aircraft Mandatory Service Bulletin SB 10-152, Amendment 1, dated April 2015. The service information describes procedures for inspection for corrosion on horizontal stabilizer spar and repair, if necessary. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 195 products of U.S. registry. We also estimate that it would take about 2 work-hours per product to comply with the basic requirements of this proposed AD. The average labor rate is $85 per work-hour.

Based on these figures, we estimate the cost of the proposed AD on U.S. operators to be $33,150, or $170 per product.

In addition, we estimate that any necessary follow-on actions would take about 15 to 38 work-hours and require parts costing $250 to $400 depending on the type of repair, for a cost of $2,325 to $4,280 per product. The cost may vary depending on the extent of damage found. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

SOCATA: Docket No. FAA-2015-3642; Directorate Identifier 2015-CE-028-AD.

(a) Comments Due Date

We must receive comments by October 13, 2015.

(b) Affected ADs

None.

(c) Applicability

This AD applies to SOCATA Models TB 9, TB 10, TB 20, TB 21, and TB 200 airplanes, all manufacturer serial numbers, certificated in any category.

(d) Subject

Air Transport Association of America (ATA) Code 55: Stabilizers.

(e) Reason

This AD was prompted by mandatory continuing airworthiness information (MCAI) originated by an aviation authority of another country to identify and correct an unsafe condition on an aviation product. The MCAI describes the unsafe condition as humidity in the horizontal stabilizer on airplanes subject to severe environmental conditions. We are issuing this AD to detect and correct corrosion of the horizontal stabilizer (HS) spar, which could lead to result in buckling and permanent HS distortion, possibly resulting in reduced control.

(f) Actions and Compliance

Unless already done, do the actions in paragraphs (f)(1) through (f)(5) of this AD:

(1) Within 13 months after the effective date of this AD and repetitively thereafter at intervals not to exceed 72 months, do a special detailed inspection of the HS spar following the instructions of DAHER-SOCATA TB Aircraft Mandatory Service Bulletin SB 10-152, Amendment 1, dated April 2015.

(2) If no discrepancy is detected during any inspections required by paragraph (f)(1) of this AD, protect the HS spar following the instructions of DAHER-SOCATA TB Aircraft Mandatory Service Bulletin SB 10-152, Amendment 1, dated April 2015.

(3) If any discrepancy is detected during any inspection required by paragraph (f)(1) of this AD, before further flight, do the applicable corrective action(s) following the instructions of DAHER-SOCATA TB Aircraft Mandatory Service Bulletin SB 10-152, Amendment 1, dated April 2015.

(4) Accomplishment of protection or corrective actions on an airplane as required by paragraph (f)(2) or (f)(3) of this AD, as applicable, does not constitute terminating action for the repetitive inspections as required by paragraph (f)(1) of this AD for that airplane.

(5) Inspections and corrective actions on an airplane, done before the effective date of this AD following the instructions of DAHER-SOCATA TB Aircraft Recommended Service Bulletin SB 10-152, dated May 2013, are acceptable to comply with the requirements of this AD for that airplane. After the effective date of this AD, repetitive inspections and applicable corrective actions, as required by this AD, must be done as required by paragraph (f)(1) of this AD following the instructions of DAHER-SOCATA TB Aircraft Mandatory Service Bulletin SB 10-152, Amendment 1, dated April 2015.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2015-0130, dated July 7, 2015; and DAHER-SOCATA TB Aircraft Recommended Service Bulletin SB 10-152, dated May 2013, for related information. You may examine the MCAI on the Internet at http://www.regulations.gov by searching for and locating Docket No. FAA-2015-3642. For service information related to this AD, contact SOCATA, Direction des Services, 65921 Tarbes Cedex 9, France; telephone: 33 (0)5 62.41.73.00; fax: 33 (0)5 62.41.76.54; or SOCATA North America, North Perry Airport, 7501 S Airport Rd., Pembroke Pines, Florida 33023, telephone: (954) 893-1400; fax: (954) 964-4141; Internet: http://www.socata.com. You may review this referenced service information at the FAA, Small Airplane Directorate, 901 Locust, Kansas City, Missouri 64106. For information on the availability of this material at the FAA, call (816) 329-4148.

Issued in Kansas City, Missouri, on August 20, 2015.
Earl Lawrence,
Manager, Small Airplane Directorate, Aircraft Certification Service.

[FR Doc. 2015-21283 Filed 8-27-15; 8:45 am]

BILLING CODE 4910-13-P